DEPARTMENT OF COMMERCE

Bureau of Economic Analysis

15 CFR Part 801

[Docket No. 110817508-1529-01]

RIN 0691-AA79

International Services Surveys: Amendments to the BE-150, Quarterly Survey of Cross-Border Credit, Debit, and Charge Card Transactions

AGENCY: Bureau of Economic Analysis, Commerce.

ACTION: Notice of proposed rulemaking.

SUMMARY: This proposed rule would amend the regulations of the Bureau of Economic Analysis, Department of Commerce (BEA) to add new entities that would be required to report information on the BE-150, Quarterly Survey of Cross-Border Credit, Debit, and Charge Card Transactions. Specifically, this rule would expand the covered entities to include companies that operate personal identification number (PIN)-based debit networks. As proposed, PIN-based debit network companies would be required to report on cross-border transactions between (1) U.S. cardholders traveling abroad and foreign businesses and (2) foreign cardholders traveling in the United States and U.S. businesses. BEA is proposing this change to improve the identification of cross-border travel transactions. BEA also proposes to change the survey title from Quarterly Survey of Cross-Border Credit, Debit, and Charge Card Transactions to Quarterly Survey of Payment Card and Bank Card Transactions Related to International Travel to reflect this change to the regulations. In addition, BEA proposes to make certain changes to the data collected on the BE-150 form to collect them in greater detail. If these changes are approved, the BE-150 survey would be conducted on a quarterly basis beginning with the first quarter of 2012.

DATES: Comments on this proposed rule will receive consideration if submitted in writing on or before 5 p.m. December 27, 2011.

ADDRESSES: You may submit comments by any of the following methods:

• Federal eRulemaking Portal: http://www.regulations.gov. Follow the instructions for submitting comments. For agency, select “Commerce Department—all.”

• Email: Christopher.Emond@bea.gov.

• Fax: Chris Emond, Chief, Special Surveys Branch, (202) 606-5318.

• Mail: Chris Emond, Chief, Special Surveys Branch, Balance of Payments Division, U.S. Department of Commerce, Bureau of Economic Analysis, BE-50, Washington, DC 20230.

• Hand Delivery/Courier: Chris Emond, Chief, Special Surveys Branch, Balance of Payments Division, U.S. Department of Commerce, Bureau of Economic Analysis, BE-50, Shipping and Receiving Section, M100, 1441 L Street, NW., Washington, DC 20005.

Please include in your comment a reference to RIN 0691-AA79 in the subject line.

Written comments regarding the burden-hour estimates or other aspects of the collection-of-information requirements contained in the proposed rule should be sent both to BEA, through any of the methods listed above, and to the Office of Management and Budget, O.I.R.A., Paperwork Reduction Project, Attention PRA Desk Officer for BEA, via email at pbugg@omb.eop.gov, or by FAX at (202) 395-7245.

Public Inspection: All comments received are a part of the public record and will generally be posted to http://www.regulations.gov without change. All personal identifying information (for example, name, address, etc.) voluntarily submitted by the commentator may be publicly accessible. Do not submit confidential business information or otherwise sensitive or protected information. BEA will accept anonymous comments.

FOR FURTHER INFORMATION CONTACT: Chris Emond, Chief, Special Surveys Branch, Balance of Payments Division (BE-50), Bureau of Economic Analysis, U.S. Department of Commerce, Washington, DC 20230; email Christopher.Emond@bea.gov; or phone (202) 606-9826.

SUPPLEMENTARY INFORMATION: This proposed rule would amend BEA's regulations at 15 CFR 801.9 to expand the types of entities that are required to submit information on BE-150, Quarterly Survey of Cross-Border Credit, Debit, and Charge Card Transactions to include companies that operate personal identification number (PIN)-based debit networks. To reflect this change to the regulations, BEA also proposes to change the title of the form from Quarterly Survey of Cross-Border Credit, Debit, and Charge Card Transactions to Quarterly Survey of Payment Card and Bank Card Transactions Related to International Travel. In addition, BEA revises the BE-150 survey form to collect certain data in greater detail.

The Department of Commerce, as part of its continuing effort to reduce paperwork and respondent burden, invites the general public and other Federal agencies to comment on proposed and/or continuing information collections, as required by the Paperwork Reduction Act of 1995.

Description of Changes

BEA proposes to amend 15 CFR 801.9(c)(7) to require companies that operate personal identification number (PIN)-based debit networks to submit information on BE-150, Quarterly Survey of Cross-Border Credit, Debit, and Charge Card Transactions. If this change is adopted, PIN-based debit network companies would be required to submit information on cross-border transactions between (1) U.S. cardholders traveling abroad and foreign businesses and (2) foreign cardholders traveling in the United States and U.S. businesses. The survey as proposed would be mandatory for all PIN-based debit network companies as it is for the U.S. credit card companies that are currently required to complete the survey. The PIN-based debit network companies have been added to the list of required reporters to close a gap in the coverage of international travel transactions. BEA also proposes to change the title of the form from Quarterly Survey of Cross-Border Credit, Debit, and Charge Card Transactions to Quarterly Survey of Payment Card and Bank Card Transactions Related to International Travel to reflect this change.

In addition, BEA proposes to make certain changes to the information collected on the BE-150 form. As proposed, the BE-150 would collect the same information as the current BE-150, but in greater detail. The proposed survey would distinguish between transactions when the bank or payment card is present at the point of sale and when the bank or payment card is not present at the point of sale. This change would improve the identification of cross-border travel transactions. In addition, the survey would disaggregate transactions by spending category by type of card—personal card versus government, business or corporate card. This change would provide the detail necessary for BEA to publish U.S. international travel statistics in accordance with international economic accounting guidelines.

The BE-150 survey proposed in this rule would be conducted by BEA on a quarterly basis, beginning with transactions for the first quarter of 2012, under the authority provided in the International Investment and Trade in Services Survey Act (Pub. L. 94-472. 90 Stat. 2059, 22 U.S.C. 3101-3108), hereinafter, “the Act.” The proposed BE-150 survey would be mandatory for both U.S. credit card and PIN-based debit network companies. If this rule is implemented, BEA would begin sending the survey to potential respondents in March of 2012; responses would be due by May 15, 2012.

The proposed BE-150 survey data will be used by BEA to estimate the travel component of the U.S. International Transactions Accounts (ITAs). In constructing the estimates, these data will be used in conjunction with data BEA collected separately from U.S. and foreign travelers on the Survey of International Travel Expenditures about the methods these travelers used to pay for their international travel, such as credit, debit, and charge card purchases, cash withdrawals, currency brought from home, and travelers' checks.

BEA maintains a continuing dialogue with respondents and with data users, including its own internal users, to ensure that, as far as possible, the required data serve their intended purposes and are available from the existing records, that instructions are clear, and that unreasonable burdens are not imposed. In reaching decisions on what questions to include in the survey, BEA considered the Government's need for the data, the burden imposed on respondents, the quality of the likely responses (for example, whether the data are available on respondents' books), and BEA's experience in previous annual and quarterly surveys.

Survey Background

The Bureau of Economic Analysis (BEA), U.S. Department of Commerce, would conduct the survey under the International Investment and Trade in Services Survey Act (22 U.S.C. 3101-3108), hereinafter, “the Act.” Section 4(a) of the Act (22 U.S.C. 3103(a)) provides that the President shall, to the extent he deems necessary and feasible, conduct a regular data collection program to secure current information related to international investment and trade in services and publish for the use of the general public and United States Government agencies periodic, regular, and comprehensive statistical information collected pursuant to this subsection.

In section 3 of Executive Order 11961, as amended by Executive Orders 12318 and 12518, the President delegated the responsibilities under the Act for performing functions concerning international trade in services to the Secretary of Commerce, who has redelegated them to BEA.

The survey would provide a basis for compiling the travel account of the United States international transactions accounts. In constructing the estimates, these data would be used in conjunction with data BEA collected separately from U.S. and foreign travelers on the Survey of International Travel Expenditures on the methods these travelers used to pay for international travel expenditures. With the two data sources, BEA would be able to estimate total expenditures by foreign travelers in the United States (U.S. exports) and total expenditures by U.S. travelers abroad (U.S. imports) by country and region.

Executive Order 12866

This proposed rule has been determined to be not significant for purposes of E.O. 12866.

Executive Order 13132

This proposed rule does not contain policies with Federalism implications as that term is defined under E.O. 13132.

Paperwork Reduction Act

This proposed rule contains a collection-of-information requirement subject to review and approval by the Office of Management and Budget (OMB) under the Paperwork Reduction Act. The requirement will be submitted to OMB as a request for a new collection of information.

Notwithstanding any other provisions of the law, no person is required to respond to, nor shall any person be subject to a penalty for failure to comply with, a collection of information subject to the requirements of the Paperwork Reduction Act unless that collection displays a currently valid Office of Management and Budget Control Number.

The BE-150 quarterly survey, as proposed, is expected to result in the filing of reports from six respondents on a quarterly basis, or 24 reports annually. The respondent burden for this collection of information would vary from one respondent to another, but is estimated to average 16 hours per response (64 hours annually), including time for reviewing the instructions, searching existing data sources, gathering and maintaining the data needed, and completing and reviewing the collection of information. Thus, the total respondent burden for the BE-150 survey is estimated at 384 hours.

Comments are requested concerning: (a) Whether the proposed collection of information is necessary for the proper performance of the functions of the agency, including whether the information will have practical utility; (b) the accuracy of the burden estimate; (c) ways to enhance the quality, utility, and clarity of the information collected; and (d) ways to minimize the burden of the collection of information on the respondents, including the use of automated collection techniques or other forms of information technology.

Written comments regarding the burden-hour estimates or other aspects of the collection-of-information requirements contained in the proposed rule should be sent to both BEA and OMB following the instructions given in the ADDRESSES section above.

Regulatory Flexibility Act

The Chief Counsel for Regulation, Department of Commerce, has certified to the Chief Counsel for Advocacy, Small Business Administration, under provisions of the Regulatory Flexibility Act (5 U.S.C. 605(b)), that this proposed rulemaking, if adopted, will not have a significant economic impact on a substantial number of small entities. A description of the changes proposed by this rule are described in the preamble and are not repeated here.

BEA estimates that this rule would not have an impact on any small entities as the BE-150 survey would be mandatory for only those U.S. credit card companies that operate networks used to clear and settle credit card transactions between issuing banks and acquiring banks, and PIN-based debit network companies. BEA estimates that there are only six companies that would be subject to this rule. Of the six companies, none is considered to be a small entity under the Small Business Administration's Table of Small Business Size Standards. All six companies are corporations that exceed the maximum annual revenue threshold to be considered a small entity. Because no small businesses are subject to reporting, the Chief Counsel for Regulation certifies that this proposed rule would not have a significant economic impact on a substantial number of small entities.

List of Subjects in 15 CFR Part 801

International transactions, Economic statistics, Foreign trade, Penalties, Reporting and recordkeeping requirements, Travel expenses, Cross-Border transactions, Credit card, and Debit card.

J. Steven Landefeld,
Director, Bureau of Economic Analysis.

For the reasons set forth in the preamble, BEA proposes to amend 15 CFR Part 801, as follows:

PART 801—SURVEY OF INTERNATIONAL TRADE IN SERVICES BETWEEN U.S. AND FOREIGN PERSONS

1. The authority citation for 15 CFR Part 801 continues to read as follows:

Authority: 5 U.S.C. 301; 15 U.S.C. 4908; 22 U.S.C. 3101-3108; and E.O. 11961, 3 CFR, 1977 Comp., p. 86, as amended by E.O. 12318, 3 CFR, 1981 Comp., p. 173, and E.O. 12518, 3 CFR, 1985 Comp., p. 348.

2. Amend § 801.9 by adding paragraph (c)(7):

§ 801.9 Reports required.

(c) Quarterly surveys. * * *

(7) BE-150, Quarterly Survey of Payment Card and Bank Card Transactions Related to International Travel:

(i) A BE-150, Quarterly Survey of Payment Card and Bank Card Transactions Related to International Travel will be conducted covering the first quarter of the 2012 calendar year and every quarter thereafter.

(A) Who must report. A BE-150 report is required from each U.S. company that operates networks for clearing and settling credit card transactions made by U.S. cardholders in foreign countries and by foreign cardholders in the United States and from PIN-based debit network companies. Each reporting company must complete all applicable parts of the BE-150 form before transmitting it to BEA. Issuing banks, acquiring banks, and individual cardholders are not required to report.

(B) Covered Transactions. The BE-150 survey collects aggregate information on the use of credit, debit, and charge cards by U.S. cardholders when traveling abroad and foreign cardholders when traveling in the United States. Data are collected by the type of transaction, by type of card, by spending category, and by country.

(ii) [Reserved]

[FR Doc. 2011-27938 Filed 10-27-11; 8:45 am]

BILLING CODE 3510-06-P